DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

San Luis Central Railroad

[Docket Number FRA-2002-14084]

The San Luis Central Railroad (SLC) seeks a waiver of compliance from certain provisions of the Safety Glazing Standards, 49 CFR Part 223, that requires certified glazing for two locomotives. The SLC is located in Monte Vista, Colorado. The SLC states they operate as a short line railroad and have yard limits of 13 miles. Both locomotives are presently equipped with laminated tinted glass with .030 lamination and an AS-1 rating. The present glazing is in good condition.

The two locomotives, specifically SLC 70 and SLC 71, operate alternating one at a time and noted locomotives never operate on any other railroad lines and have a record of good compliance with the Federal Railroad Administration (FRA). The two locomotives are in very good condition. There is also no record of vandalism on their property.

The field investigation reveals the terrain in the SLC traverses is largely farm grade. The grade of the track is flat with a few short curves.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2002-14084) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on February 13, 2003.
Grady C. Cothen, Jr.,
Deputy Associate Administrator for Safety Standards and Program Development.

[FR Doc. 03-3984 Filed 2-18-03; 8:45 am]

BILLING CODE 4910-06-P